DEPARTMENT OF HEALTH AND HUMAN SERVICES

Indian Health Service

Request for Public Comment: 30-Day Information Collection: Indian Health Service Purchased/Referred Care Proof of Residency; OMB No. 0917-0040

AGENCY: Indian Health Service, HHS.

ACTION: Notice and request for comments; request for extension of approval.

SUMMARY: In compliance with the Paperwork Reduction Act of 1995, the Indian Health Service (IHS) invites the general public to take this opportunity to comment on the information collection Office of Management and Budget (OMB) Control Number 0917-0040, titled, Purchased/Referred Care Proof of Residency. The IHS is requesting OMB to approve an extension for this collection. Notice regarding the information collection was last published in the Federal Register on January 24, 2022, and allowed 60 days for public comment. The purpose of this notice is to announce the IHS' intent to submit this collection to OMB and to allow 30 days for public comment to be submitted directly to OMB. A copy of the supporting statement is available at www.regulations.gov (see Docket ID: IHS_FRDOC_0001).

DATES: Consideration will be given to all comments received by May 2, 2022.

ADDRESSES: Direct Your Comments to OMB: Send your comments and suggestions regarding the proposed information collection contained in this notice, especially regarding the estimated public burden and associated response time to: Office of Management and Budget, Office of Regulatory Affairs, New Executive Office Building, Room 10235, Washington, DC 20503, Attention: Desk Officer for IHS.

FOR FURTHER INFORMATION CONTACT: To request additional information, please contact Evonne Bennett, Information Collection Clearance Officer at: Evonne.Bennett@ihs.gov or 301-443-4750.

SUPPLEMENTARY INFORMATION: This previously approved information collection project was last published in the Federal Register on January 24, 2022, and allowed 60 days for public comment (87 FR 3562). No public comment was received in response to the notice. This notice announces our intent to submit this collection, which expires March 31, 2022, to OMB for approval of an extension, and to solicit comments on specific aspects for the proposed information collection.

Title: Purchased/Referred Care Proof of Residency.

OMB Control Number: 0917-0040.

Need and Use of Information Collection: The IHS Purchased/Referred Care Program needs the information requested on the PRC Proof of Residency form to verify that individuals seeking medical services through a PRC program meet the residency requirements specific to PRC under 42 CFR 136.23.

Agency Form Number: IHS 976.

Members of Affected Public: Individuals/Households.

Status of the Proposed Information Collection: Renewal request.

Type of Respondents: Individuals.

The table below provides: Types of data collection instruments, Estimated number of respondents, Number of responses per respondent, Annual number of responses, Average burden hour per response, and Total annual burden hours.

Data collection instrument(s) | Estimated number of respondents | Responses per respondent | Annual number of responses | Average burden hour per response * | Total annual burden hours
Individual Patient Count | 77,185 | 1 | 77,185 | 3/60 | 3,859.25
Total | 77,185 | 1 | 77,185 | 3/60 | 3,859.25
* For ease of understanding, the average burden per response is 3 minutes.

There are no direct costs to respondents to report.

Requests for Comments: Your written comments and/or suggestions are invited on one or more of the following points:

(a) Whether the information collection activity is necessary to carry out an agency function;

(b) whether the agency processes the information collected in a useful and timely fashion;

(c) the accuracy of the public burden estimate (the estimated amount of time needed for individual respondents to provide the requested information);

(d) whether the methodology and assumptions used to determine the estimates are logical;

(e) ways to enhance the quality, utility, and clarity of the information being collected; and

(f) ways to minimize the public burden through the use of automated, electronic, mechanical, or other technological collection techniques or other forms of information technology.

Elizabeth A. Fowler,
Acting Deputy Director, Indian Health Service.

[FR Doc. 2022-06767 Filed 3-31-22; 8:45 am]

BILLING CODE 4165-16-P